DEPARTMENT OF DEFENSE

Department of the Navy

Notice of Availability of Government-Owned Inventions; Available for Licensing

AGENCY: Department of the Navy, DoD.

ACTION: Notice.

SUMMARY: The inventions listed below are assigned to the United States Government, as represented by the Secretary of the Navy and are available for domestic and foreign licensing by the Department of the Navy.

The following patents are available for licensing: Patent Application No.14/587,455 (Navy Case No. 103030): ADHESION IMPROVEMENT IVA MATEIRAL NANOSTRUCUTURING OR TEXTURIZING//Patent Application No. 15/077,352 (Navy Case No. 200332): MODIFYING THE SURFACE CHEMISTRY OF A MATERIAL//and Navy Case No. 200322: ADHESION IMPROVEMENT VIA MATERIAL NANOSTRUCTURING OR TEXTURIZING.

ADDRESSES: Requests for copies of the patents cited should be directed to Naval Surface Warfare Center, Crane Div, Code OOL, Bldg 2, 300 Highway 361, Crane, IN 47522-5001.

FOR FURTHER INFORMATION CONTACT: Mr. Christopher Monsey, Naval Surface Warfare Center, Crane Div, Code OOL, Bldg 2, 300 Highway 361, Crane, IN 47522-5001, Email Christopher.Monsey@navy.mil, telephone 812-854-4100.

Authority: 35 U.S.C. 207, 37 CFR Part 404.

Dated: November 16, 2016.
C.D. Mora,
Commander, Judge Advocate General's Corps, U.S. Navy, Federal Register Liaison Officer.

[FR Doc. 2016-28068 Filed 11-21-16; 8:45 am]

BILLING CODE 3810-FF-P